DEPARTMENT OF TRANSPORTATION

Federal Aviation Administration

14 CFR Part 39

[Docket No. FAA-2013-0737; Directorate Identifier 2012-SW-111-AD]

RIN 2120-AA64

Airworthiness Directives; Eurocopter France Helicopters

AGENCY: Federal Aviation Administration (FAA), DOT.

ACTION: Notice of proposed rulemaking (NPRM).

SUMMARY: We propose to adopt a new airworthiness directive (AD) for certain Eurocopter France (Eurocopter) Model AS332C, AS332L, AS332L1, AS332L2, and SA330J helicopters. This proposed AD would require inspecting the crimping of the ball joint of the upper- and lower- end-fittings of the main servo-control and, depending on findings, replacing the main servo-control or repairing the ball joint. This proposed AD is prompted by incidents of missing crimping on the ball joints of servo-control end-fittings. The proposed actions are intended to prevent failure of a main servo-control upper end fitting, and subsequent failure of the flight controls and loss of control of the helicopter.

DATES: We must receive comments on this proposed AD by October 21, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Matt Wilbanks, Aviation Safety Engineer, Rotorcraft Certification Office, Rotorcraft Directorate, FAA, 2601 Meacham Blvd., Fort Worth, Texas 76137; telephone (817) 222-5110; email matt.wilbanks@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2012-0248, dated November 20, 2012, to correct an unsafe condition for Eurocopter AS 332 C, AS 332 C1, AS 332 L, AS 332 L1, AS 332 L2, and SA 330 J helicopters with certain part-numbered main servo-controls installed. EASA advises that several occurrences were reported to Eurocopter of missing crimping on ball joints of servo-control end-fittings. EASA states that while slipping of the ball joint of the lower end-fitting does not affect its service life, slipping of the ball joint of the upper end-fitting can lead to a significant reduction of the service life of this end-fitting. As a result, the EASA AD requires inspecting each ball joint for crimping and, depending on the findings, replacing the main servo-control.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter issued one Emergency Alert Service Bulletin (EASB) with three different numbers, all Revision 1, and all dated December 5, 2012. EASB No. 67.00.45 applies to civilian Model AS332C, AS332C1, AS332L, AS332L1, AS332L2, and military Model AS332B, AS332B1, AS332M, AS332M1, and AS332F1 helicopters. EASB No. 67.00.31 applies to military Model AS532AC, AS532AL, AS532SC, AS532UC, AS532UE, AS532UL, AS532A2, and AS532U2 helicopters. EASB No. 67.19 applies to civilian Model SA330J and military Model SA330Ba, SA330Ca, SA330Ea, SA330L, SA330Jm, SA330S1, and SA330Sm helicopters. The EASB specifies visually checking for crimping of the ball joints of the upper- and lower- servo control end-fittings and informing the Eurocopter Technical Support Department of any ball joint that is not crimped. For an upper end-fitting ball joint that is not crimped and slips one millimeter (mm) or greater, the EASB specifies returning the servo-control for replacement of the ball joint and the end-fitting. For an upper end-fitting ball joint that is not crimped and slips less than one mm, the EASB specifies either crimping the ball joint or returning the servo-control for ball joint crimping. For a lower end-fitting ball joint that is not crimped, the EASB states to crimp the ball joint. The EASB also states that if a ball joint is crimped, no action on that ball joint is required in regard to this unsafe condition.

Proposed AD Requirements

This proposed AD would require visually inspecting the applicable ball joint of the upper and lower end-fittings of the main servo control for crimping. If the ball joint of the upper end-fitting is not crimped and the slipping of the ball joint is one mm or greater, then this proposed AD would require replacing the servo-control with an airworthy servo-control. If the ball joint of the upper end-fitting is not crimped and the slipping of the ball joint is less than one mm, then this proposed AD would require replacing the servo-control with an airworthy servo-control or crimping the ball joint. If the ball joint of the lower end-fitting is not crimped, this proposed AD would require crimping the ball joint.

Costs of Compliance

We estimate that this proposed AD would affect 18 helicopters of U.S. Registry. We estimate that operators may incur the following costs in order to comply with this AD. We estimate it would take 1 work-hour to inspect the ball joint for crimping at an average labor cost of $85 per work-hour. Based on these figures, it would cost about $85 per helicopter for the inspection, or $1,530 for U.S. operators. We estimate it would take 4 work-hours to replace a servo-control and parts would cost approximately $60,358 for a total estimated cost of $60,698 for replacement.

According to Eurocopter's service information some of the costs of this proposed AD may be covered under warranty, thereby reducing the cost impact on affected individuals. We do not control warranty coverage by Eurocopter or UTC Actuation Systems/Goodrich Actuation Systems. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France (Eurocopter) Helicopters: Docket No. FAA-2013-0737; Directorate Identifier 2012-SW-111-AD.

(a) Applicability

This AD applies to the following model helicopters, certificated in any category, with a part-numbered main servo-control listed below: overhauled or repaired by UTC Actuation Systems/Goodrich Actuation Systems between June 1, 2008, and September 15, 2012, inclusive; or with a serial number listed in Appendix 1 of Eurocopter Emergency Alert Service Bulletin Nos. 67.00.45 or 67.19, both Revision 1, and both dated December 5, 2012 (EASB):

(1) Model AS332C, AS332L, AS332L1, and AS332L2 helicopters with main servo-control, part number (P/N) SC7202, SC7202-(all dash numbers), SC7203, SC7203-(all dash numbers), SC7221, or SC7221-(all dash numbers), installed; and

(2) Model SA330J helicopters with main servo-control P/N SC7111, SC7111-(all dash numbers) SC7112, or SC7112-(all dash numbers), installed.

(b) Unsafe Condition

This AD defines the unsafe condition as missing crimping on a ball joint of a main servo-control end-fitting. This condition could result in failure of a main servo-control upper end fitting, failure of the flight controls, and loss of control of the helicopter.

(c) Comments Due Date

We must receive comments by October 21, 2013.

(d) Compliance

You are responsible for performing each action required by this AD within the specified compliance time unless it has already been accomplished prior to that time.

(e) Required Actions

(1) Within 85 hours time-in-service (TIS):

(i) Using a light source, inspect the ball joint of the upper end-fitting of the main servo control for crimping in accordance with Detail A and Detail B, Figure 1, of the EASB applicable to your model helicopter.

(A) If the upper ball joint is not crimped and the ball joint slips a distance of 1 millimeter (mm) or greater, replace the servo-control with an airworthy servo-control.

(B) If the upper ball joint is not crimped and the ball joint slips a distance of less than 1mm, either crimp the ball joint or replace the servo-control with an airworthy servo-control.

(ii) Using a light source, inspect the ball joint of the lower end-fitting of the main servo-control for crimping in accordance with Detail A and Detail B, Figure 1, of the EASB applicable to your model helicopter. If the lower ball joint is not crimped, crimp the ball joint.

(2) Prior to installing any servo-control that is affected by this AD, perform the required actions in accordance with paragraphs (e)(1) of this AD.

(f) Alternative Methods of Compliance (AMOCs)

(1) The Manager, Safety Management Group, FAA, may approve AMOCs for this AD. Send your proposal to: Matt Wilbanks, Aviation Safety Engineer, Rotorcraft Certification Office, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2012-0248, dated November 20, 2012. You may view the EASA AD on the Internet at http://www.regulations.gov in Docket No. FAA-2013-0737.

(h) Subject

Joint Aircraft Service Component (JASC) Code: 6730, Rotor Flight Control—Rotorcraft Servo System.

Issued in Fort Worth, Texas, on August 12, 2013.
Kim Smith,
Directorate Manager, Rotorcraft Directorate, Aircraft Certification Service.

[FR Doc. 2013-20312 Filed 8-19-13; 8:45 am]

BILLING CODE 4910-13-P